DEPARTMENT OF AGRICULTURE

Agricultural Marketing Service

[Document No. AMS-TM-20-0043]

Micro-Grants for Food Security Program; Request for Emergency Approval of a New Information Collection

AGENCY: Agricultural Marketing Service, USDA.

ACTION: Notice of emergency request.

SUMMARY: In accordance with the Paperwork Reduction Act of 1995, this notice announces the Agricultural Marketing Service's (AMS) intention to receive approval from the Office of Management and Budget (OMB) to collect information for the Micro-Grants for Food Security Program (MGFSP) under its Grants Division. Due to the passing of the Agriculture Improvement Act of 2018 (Pub. L. 115-343) (Farm Bill), AMS Grants Division is implementing this new grant program under section 4206, which directs the Secretary of Agriculture to “distribute funds to the agricultural department or agency of each eligible state for the competitive distribution of subgrants to eligible entities for fiscal year 2019 and each fiscal year thereafter.”

DATES: Comments on this notice must be received by July 27, 2020 to be assured of consideration.

ADDRESSES: Interested persons are invited to submit comments concerning this information collection notice. Comments should be submitted online at www.regulations.gov or sent to Nicole Nelson Miller, Acting Grants Division Director, AMS Transportation and Marketing Program, 1400 Independence Avenue SW, Stop 0269, Washington, DC 20250-0264, or email Nicole.NelsonMiller@usda.gov. All comments should reference the Doc. No. AMS-TM-20-0043, the date, and the page number of this issue of the Federal Register. All comments received will be posted without change, including any personal information provided, online at www.regulations.gov and will be made available for public inspection at the above physical address during regular business hours.

FOR FURTHER INFORMATION CONTACT: Nicole Nelson Miller at the above physical address, or by email at Nicole.NelsonMiller@usda.gov.

SUPPLEMENTARY INFORMATION:

Overview of This Information Collection

Abstract

In accordance with the Paperwork Reduction Act of 1995 (44 U.S.C. chapter 35), AMS is seeking approval from the OMB for a new information collection under OMB No. 0581-NEW needed for the implementation of the Micro-Grants for Food Security Program (MGFSP). Once approved, the collection will be merged with 0581-0240.

MGFSP operates pursuant to the authority of section 4206 of the Agriculture Improvement Act of 2018 (Pub. L. 115-343), (7 U.S.C. 7518) (Farm Bill) and is implemented through the Uniform Administrative Requirements, Cost Principles, and Audit Requirements for Federal Awards (2 CFR 200). The AMS Grants Division requests to collect information from agricultural agencies or departments in eligible states, which include Alaska, American Samoa, the Commonwealth of the Northern Mariana Islands, the Commonwealth of Puerto Rico, the Federated States of Micronesia, Guam, Hawaii, the Republic of the Marshall Islands, the Republic of Palau, and the United States Virgin Islands for this new grant program.

MGFSP is intended to increase the quantity and quality of locally grown food in food insecure communities, including through small-scale gardening, herding, and livestock operations, in eligible states. The Farm Bill authorized to be appropriated to the Secretary $10 million for fiscal year 2019 and each fiscal year thereafter. In fiscal year 2020, $5 million was appropriated.

Because MGFSP is voluntary, respondents request or apply for this specific non-competitive grant program, and in doing so, they provide information. AMS is the primary user of the information. The information collected is needed to certify that grant participants are complying with applicable program regulations, and the data collected is the minimum information necessary to effectively carry out the requirements of the program. The information collection requirements in this request are essential to carry out the intent of the 7 U.S.C. 7518, to provide the respondents the type of service they request, and to administer this program. The burden of the MGFSP is as follows:

Micro-Grants for Food Security Program (MGFSP)

Estimate of Burden: 2.65 hours per response.

Respondents: Grant applicants, grant recipients.

Estimated Number of Respondents: 10.

Estimated Total Annual Responses Including Recordkeeping: 120.

Estimated Number of Responses per Respondent: 11.

Estimated Total Annual Burden on Respondents and Recordkeepers: 318.33 hours.

Comments are invited on: (1) Whether the new collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of the collection of information on those who are to respond, including the use of appropriate automated, electronic, mechanical, or other technological collection techniques or other forms of information technology.

Obtaining OMB's approval of this new information collection enables AMS Grants Division to publish a Request for Applications (RFA) to establish application requirements, the review and approval process, and grant administration procedures, which will enable eligible states to develop appropriate grant applications for the program so that AMS can adequately evaluate these new proposals and obligate the funds as required by the Farm Bill.

Bruce Summers,
Administrator, Agricultural Marketing Service.

[FR Doc. 2020-11222 Filed 5-22-20; 8:45 am]

BILLING CODE 3410-02-P